COMMODITY FUTURES TRADING COMMISSION

Sunshine Act Meetings

Agency Holding the Meeting: Commodity Futures Trading Commission.

Time and Date: 2:00 p.m., Wednesday, January 21, 2009.

Place: 1155 21st St., NW., Washington, DC, 9th Floor Commission Conference Room.

Status: Closed.

Matters to be Considered: Enforcement Matters.

Contact Person for More Information: Sauntia S. Warfield, 202-418-5084.

Sauntia S. Warfield,
Staff Assistant.

[FR Doc. E8-30526 Filed 12-18-08; 4:15 pm]

BILLING CODE 6351-01-P